DEPARTMENT OF HOMELAND SECURITY

Coast Guard

33 CFR Part 165

[Docket No. USCG-2013-0199]

Safety Zones; Fireworks Events in Captain of the Port New York Zone

AGENCY: Coast Guard, DHS.

ACTION: Notice of enforcement of regulation.

SUMMARY: The Coast Guard will enforce various safety zones in the Captain of the Port New York Zone on the specified dates and times. This action is necessary to ensure the safety of vessels and spectators from hazards associated with fireworks displays. During the enforcement period, no person or vessel may enter the safety zone without permission of the Captain of the Port (COTP).

DATES: The regulation for the safety zone described in 33 CFR 165.160 will be enforced on the date and time listed in the table in SUPPLEMENTARY INFORMATION.

FOR FURTHER INFORMATION CONTACT: If you have questions on this notice, call or email Ensign Kimberly Beisner, Coast Guard; telephone 718-354-4163, email Kimberly.A.Beisner@uscg.mil.

SUPPLEMENTARY INFORMATION:

The Coast Guard will enforce the safety zone listed in 33 CFR 165.160 on the specified date and time as indicated in Table 1 below. This regulation was published in the Federal Register on November 9, 2011 (76 FR 69614).

Table 1
1. North Shore LIJ System Gala, Pier 90, Hudson River Safety Zone, 33 CFR 165.160(5.4) | • Launch site: A barge launch located in approximate position 40°46′11.8″ N, 074°00′14.8″ W (NAD 1983), approximately 375 yards west of Pier 90, Manhattan, New York.
| • Date: April 25, 2013.
| • Time: 9:30 p.m.-10:45 p.m.
2. Norwegian Breakaway, Liberty Island Safety Zone, 33 CFR 165.160(2.1) | • Launch site: A barge launch located in approximate position 40°41′16.5” N, 074°02′23″ W (NAD 1983), located in Federal Anchorage 20-C, about 360 yards east of Liberty Island.
| • Date: May 8, 2013
| • Time: 8:20 p.m.-9:30 p.m.
3. NECO Awards, Liberty Island Safety Zone, 33 CFR 165.160 (2.1) | • Launch site: A barge launch located in approximate position 40°41′16.5″ N, 074°02′23″ W (NAD 1983), located in Federal Anchorage 20-C, about 360 yards east of Liberty Island.
| • Date: May 11-12, 2013
| • Time: 11:00 p.m.—00:10 a.m.
4. Allied PRA—Petsmart Fireworks, Liberty Island Safety Zone, 33 CFR 165.160 (2.1) | • Launch site: A barge launch located in approximate position 40°41′16.5″ N, 074°02′23″ W (NAD 1983), located in Federal Anchorage 20-C, about 360 yards east of Liberty Island.
| • Date: May 15, 2013.
| • Time: 8:15 p.m.-9:30 p.m.
5. Shackman Associates, Liberty Island Safety Zone, CFR 165.160 (2.1) | • Launch site: A barge launch located in approximate position 40°41′16.5″ N, 074°02′23″ W (NAD 1983), located in Federal Anchorage 20-C, about 360 yards east of Liberty Island.
| • Date: May 23, 2013.
| • Time: 9:50 p.m.-10:25 p.m.
6. Fort Hamilton Independence Celebration, Fort Hamilton Safety Zone, 33 CFR 165.160 (2.14) | • Launch site: A barge launch located in approximate position 40°36′00″ N, 074°01′42.5″ W (NAD 1983), approximately 1400 yards southeast of the Verrazano-Narrows Bridge.
| • Date: June 29, 2013.
| • Time: 9:15 p.m.-10:30 p.m.
7. Larchmont Yacht Club, Larchmont Harbor South Safety Zone, 33 CFR 165.160(3.12) | • Launch site: A barge launch located in approximate position 40°55′16″ N, 073°44′15″ W (NAD 1983), approximately 440 yards north of Umbrella Rock, Larchmont Harbor, New York.
| • Date: July 4, 2013.
| • Time: 9:30 p.m.-10:30 p.m.
8. City of Poughkeepsie, Poughkeepsie, NY, Safety Zone, 33 CFR 165.160(5.13) | • Launch site: A barge launch located in approximate position 41°42′24.50″ N, 073°56′44.16″ W (NAD 1983), approximately 420 yards north of the Mid Hudson Bridge.
| • Date: July 4, 2013
| • Time: 8:30 p.m.-10:00 p.m.
9. Breezy Point Coop, Rockaway Inlet Safety Zone, 33 CFR 165.160(2.9) | • Launch site: A barge launch located in approximate position 40°34′19.1″ N, 073°54′43.5″ W (NAD 1983), 1200 yards south of Point Breeze.
| • Date: July 5, 2013.
| • Time: 9:00 p.m.-10:30 p.m.
10. America's Birthday, Liberty Island Safety Zone, 33 CFR 165.160(2.1) | • Launch site: A barge launch located in approximate position 40°41′16.5″ N, 074°02′23″ W (NAD 1983), located in Federal Anchorage 20-C, about 360 yards east of Liberty Island.
| • Date: July 6, 2013.
| • Time: 9:10 p.m.-10:20 p.m.
11. Marist College OACAC Fireworks, Poughkeepsie, NY, Safety Zone, 33 CFR 165.160(5.13) | • Launch site: A barge launch located in approximate position 41°42′24.50″ N, 073°56′44.16″ W (NAD 1983), approximately 420 yards north of the Mid Hudson Bridge.
| • Date: July 11, 2013.
| • Time: 8:30 p.m.-10:00 p.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice is issued under authority of 33 CFR 165.160(a) and 5 U.S.C. 552 (a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: April 10, 2013.
G. Loebl,
Captain, U.S. Coast Guard, Captain of the Port New York.

[FR Doc. 2013-09608 Filed 4-23-13; 8:45 am]

BILLING CODE 9110-04-P